DEPARTMENT OF DEFENSE

Department of the Army

[ID# EISX-007-21-001-1733763715]

Record of Decision on Army Training Land Retention of State Lands at Kahuku Training Area, Kawailoa-Poamoho Training Area, and Makua Military Reservation, Island of O`ahu, Hawai`i

AGENCY: Department of the Army, DOD.

ACTION: Notice of availability.

SUMMARY: The Department of the Army (Army) signed the Record of Decision (ROD) on August 4, 2025, for the Environmental Impact Statement (EIS) Regarding Army Training Land Retention of State Lands at Kahuku Training Area (KTA), Kawailoa-Poamoho Training Area (Poamoho), and Makua Military Reservation (MMR). The Army selected Alternative 2 at KTA and the No Action Alternative at Poamoho and MMR (the preferred alternative in the Final EIS). The ROD completes the National Environmental Policy Act (NEPA) process for the action.

ADDRESSES: The ROD, Final EIS, and informational materials are available on the EIS website at: https://home.army.mil/hawaii/OahuEIS/documents.

FOR FURTHER INFORMATION CONTACT: U.S. Army Garrison Hawai`i, Mr. Nathan Wilkes, Public Affairs Office, by telephone at (808) 787-2140 or by email at usarmy.hawaii.nepa@army.mil.

SUPPLEMENTARY INFORMATION: In accordance with NEPA, the ROD identifies the Army's selected alternative and the basis for its selection. The ROD is based on the results of the Final EIS, which analyzed the environmental impacts associated with the proposed action. The Army published the Final EIS on May 16, 2025.

The Final EIS evaluated the potential impacts of a range of reasonable alternatives:

For KTA—(1) Full Retention (of approximately 1,150 acres); (2) Modified Retention (of approximately 450 acres);

For Poamoho—(1) Full Retention (of approximately 4,390 acres); (2) Modified Retention (of approximately 3,170 acres); and

For MMR—(1) Full Retention (of approximately 782 acres); (2) Modified Retention (of approximately 572 acres); (3) Minimum Retention (of approximately 162 acres and 2.4 miles of select range and firebreak roads).

The Final EIS also analyzed the potential impacts of the No Action Alternative, under which Army use of the land would cease altogether when the lease expires in 2029. The Army selects Alternative 2 at KTA (retention of approximately 450 acres) and the No Action Alternative at Poamoho and MMR.

The Final EIS analyzed: land use; biological resources; historic and cultural resources; cultural practices; hazardous substances and hazardous wastes; air quality and greenhouse gases; noise; geology, topography, and soils; water resources; socioeconomics; environmental justice; transportation and traffic; and human health and safety.

The Final EIS was prepared according to certain, now-rescinded Executive Orders, and the Council on Environmental Quality's NEPA implementing regulations and the Army's NEPA implementing regulations, which are also now rescinded. Because analysis regarding greenhouse gases and environmental justice was already provided to the public for comment in the Draft EIS, such analysis was included in the Final EIS for transparency and continuity.

The Army's decision to select Alternative 2 at KTA and the No Action Alternative at Poamoho and MMR was based on consideration of the full analyses of all alternatives contained in the Final EIS, comments provided during formal public comment and review periods, and an evaluation of the ability of each alternative to meet the purpose of and need for the proposed action. The Army will proceed with Alternative 2 at KTA and the No Action Alternative at Poamoho and MMR, as described in the Final EIS.

(Authority: 42 U.S.C. 4321 et seq. (1969)).

James W. Satterwhite, Jr.,
U.S. Army Federal Register Liaison Officer.

[FR Doc. 2025-15034 Filed 8-6-25; 8:45 am]

BILLING CODE 3711-CC-P